DEPARTMENT OF VETERANS AFFAIRS

Notice of Intent To Prepare an Environmental Impact Statement for the San Francisco Veterans Affairs Medical Center (SFVAMC) Institutional Master Plan

AGENCY: Department of Veterans Affairs (VA).

ACTION: Notice of intent.

SUMMARY: Pursuant to the National Environmental Policy Act (NEPA) of 1969, as amended, (42 U.S.C. 4331 et seq.), the Council on Environmental Quality Regulations for Implementing the Procedural Requirements of NEPA (40 CFR parts 1500-1508), VA's Implementing Regulations (38 CFR part 26), as well as the settlement agreement resulting from Planning Association for Richmond, et al v. U.S. Department of Veterans Affairs, C-06-02321-SBA (filed 6 June 2008), VA intends to prepare an environmental impact statement (EIS) for the proposed implementation of the SFVAMC Institutional Master Plan (IMP) in San Francisco, California. The SFVAMC IMP involves development and construction of patient care buildings, research buildings, business occupancy buildings, and parking structures, as well as retrofitting seismically deficient buildings. The EIS will address environmental issues associated with 945,000 square feet of new construction and approximately 500,000 square feet of retrofitted development to upgrade the SFVAMC for purposes of meeting the needs of Veterans of the North Coast and San Francisco Bay Area over the next 20 years.

DATES: Interested parties are invited to submit comments on or before April 29, 2011 to ensure full consideration during the scoping process.

ADDRESSES: Comments should be addressed to John Pechman, Facility Planner, San Francisco VA Medical Center (001), 4150 Clement Street, San Francisco, California 94121, or sent electronically to John.Pechman@va.gov.

FOR FURTHER INFORMATION CONTACT: John Pechman, Facility Planner, SFVAMC at the address above or by telephone, (415) 221-4810. The SFVAMC IMP is available for viewing on the SFVAMC Web site: http://www.sanfrancisco.va.gov/visitors/noi.asp.

SUPPLEMENTARY INFORMATION: VA operates the SFVAMC, located at Fort Miley in San Francisco, California. It is the only VA medical center in the City and County of San Francisco and is considered an aging facility with need for retrofitting and expansion. The SFVAMC has identified a need for retrofitting existing buildings to the most recent seismic safety requirements and for an additional 945,000 square feet of medical facility space (in addition to the existing 1.02 million square feet of medical facility space) to meet the needs of San Francisco Bay Area and northern California coast Veterans over the next 20 years.

VA has identified four reasonable alternatives for evaluation in the EIS:

Alternative 1 involves the existing SFVAMC site, which is a 29-acre site located at Fort Miley in the northwestern portion of the City of San Francisco. The site is bounded by Clement Street on the south, Lincoln Park on the north and east, and the National Park Service on the west. Implementation of the SFVAMC Institutional Master Plan Alternative 1 at this site would include approximately 939,200 square feet of new and/or retrofitted development. This alternative would involve development or retrofitting of buildings for patient care, research, business occupancy, residential and parking structures.

Alternative 2 involves a combination of new development and renovation of existing buildings within the existing SFVAMC campus, and relocation of some aspects of the medical center to an alternate site within the City of San Francisco. This alternative may involve retrofit and development of clinical, research, and administrative buildings at the existing SFVAMC site and the construction of a new clinical ambulatory care center, medical research buildings, and parking structures at the new alternate site.

Alternative 3 involves construction and relocation of the entire medical center campus to an alternate site within the City of San Francisco. This alternative would include construction of approximately 1.9 million square feet of new health care, clinical, research, and administrative facilities, including a new ambulatory care center, inpatient and outpatient care, research, business occupancy buildings, and parking structures.

In addition to the three aforementioned action alternatives, the EIS will evaluate potential environmental effects associated with the no action alternative (Alternative 4). Potential issues to be addressed in the EIS include, but are not limited to biological resources, historic and archaeological resources, geology and soils, hazards, hydrology and water quality, air quality, and transportation. Relevant and reasonable measures that could alleviate environmental effects will be considered.

VA will undertake necessary consultations with regulatory entities pursuant to the Endangered Species Act, Clean Water Act, National Historic Preservation Act, and any other applicable law or regulation. Consultation will include but is not limited to the following Federal, state, and local agencies: State Historic Preservation Officer; U.S. Fish and Wildlife Service; U.S. Environmental Protection Agency; and the National Park Service.

Information related to the EIS process, including notices of public meetings, will be available for viewing on the SFVAMC Web site: http://www.sanfrancisco.va.gov/.

Approved: March 18, 2011.
John R. Gingrich,
Chief of Staff, Department of Veterans Affairs.

[FR Doc. 2011-7435 Filed 3-29-11; 8:45 am]

BILLING CODE 8320-01-P